BUREAU OF CONSUMER FINANCIAL PROTECTION

[Docket No. CFPB-2012-0001]

Proposed Collection; Comment Request

AGENCY: Bureau of Consumer Financial Protection.

ACTION: Notice and request for comment.

SUMMARY: The Consumer Financial Protection Bureau (CFPB), as part of its continuing effort to reduce paperwork burdens, invites the general public and other Federal agencies to comment on a proposed revision to an information collection, as required by the Paperwork Reduction Act of 1995, Public Law 104-13. The CFPB is soliciting comments regarding the information collection requirements under OMB control number 3170-0001, Report of Terms of Credit Card Plans.

DATES: Written comments must be received on or before March 19, 2012 to be assured of consideration.

ADDRESSES: You may submit comments, identified by Docket No. CFPB-2012-0001, by any of the following methods:

• Electronic: http://www.regulations.gov. Follow the instructions for submitting comments.

• Mail: Monica Jackson, Office of the Executive Secretary, Consumer Financial Protection Bureau, 1700 G Street NW., Washington, DC 20006.

• Hand Delivery/Courier in Lieu of Mail: Monica Jackson, Office of the Executive Secretary, Consumer Financial Protection Bureau, 1700 G Street NW., Washington, DC 20006.

All submissions must include the agency name and docket number. In general, all comments received will be posted without change to http://www.regulations.gov. In addition, comments will be available for public inspection and copying at 1700 G Street NW., Washington, DC 20006, on official business days between the hours of 10 a.m. and 5 p.m. Eastern Time. You can make an appointment to inspect the documents by telephoning (202) 435-7275. All comments, including attachments and other supporting materials, will become part of the public record and subject to public disclosure. Sensitive personal information, such as account numbers or social security numbers, should not be included. Comments will not be edited to remove any identifying or contact information.

FOR FURTHER INFORMATION CONTACT: Requests for additional information should be directed to Dan Quan, Research, Markets & Regulations, at (202) 435-7678.

SUPPLEMENTARY INFORMATION: Title: Report of Terms of Credit Card Plans.

OMB Control Number: 3170-0001.

Abstract: Section 1100A of the Dodd-Frank Wall Street Reform and Consumer Protection Act (Dodd-Frank Act), Public Law 111-203, transferred the authority to conduct the semiannual Report of Terms of Credit Card, from the Federal Reserve Board to the CFPB on July 21, 2011. About 150 credit card issuers, including the 25 largest issuers as measured by outstanding credit card receivables, report the information on credit card pricing and fees. Previously, the information was collected under OMB control number 7100-0239, Form Number 2572. Much of the information collected through the approved information collection is now widely available and in greater detail on third-party credit card shopping Web sites. The CFPB is looking for ways to make the report more informative and helpful for consumers.

Type of Review: Revision of a currently approved collection.

Affected Public: Credit Card issuers.

Estimated Total Annual Burden Hours: 75.

Request for Comments: Comments submitted in response to this notice will be summarized and/or included in the request for Office of Management and Budget approval. All comments will become a matter of public record. The public is invited to submit written comments concerning: (a) Whether the collection of information is necessary for the proper performance of the CFPB, including whether the information will have practical utility; (b) the accuracy of the above estimate of the burden of the information collection; (c) ways to enhance the quality, usefulness, and clarity of the information to be collected; and (d) ways to minimize the burden of the collection of information on respondents, including through the use of appropriate automated, electronic, mechanical or other technological collection techniques or other forms of information technology, e.g., permitting electronic submission of responses.

Dated: January 9, 2012.
Chris Willey,
Chief Information Officer, Consumer Financial Protection Bureau.

[FR Doc. 2012-987 Filed 1-18-12; 8:45 am]

BILLING CODE 4810-AM-P